ENVIRONMENTAL PROTECTION AGENCY

40 CFR Part 312

[EPA-HQ-OLEM-2016-0786; FRL-9967-47-OLEM]

RIN 2050-AG94

Amendment to Standards and Practices for All Appropriate Inquiries Under CERCLA

AGENCY: Environmental Protection Agency (EPA).

ACTION: Withdrawal of direct final rule.

SUMMARY: On June 20, 2017, the U.S. Environmental Protection Agency (EPA or the agency) took direct final action to amend the All Appropriate Inquiries Rule to reference ASTM International's E2247-16 “Standard Practice for Environmental Site Assessments: Phase I Environmental Site Assessment Process for Forestland or Rural Property” and allow for its use to satisfy the statutory requirements for conducting all appropriate inquiries under the Comprehensive Environmental Response, Compensation and Liability Act (CERCLA). The direct final rule was scheduled to be effective on September 18, 2017, unless EPA received adverse written comment. Because EPA received adverse comment, we are withdrawing the direct final rule for the Amendment to Standards and Practices for All Appropriate Inquiries published on June 20, 2017.

DATES: The direct final rule published on June 20, 2017 at 82 FR 28009 is withdrawn effective September 15, 2017.

FOR FURTHER INFORMATION CONTACT: Patricia Overmeyer, Office of Brownfields and Land Revitalization (5105T), U.S. Environmental Protection Agency, 1200 Pennsylvania Avenue NW., Washington, DC 20460-0002, 202-566-2774, or overmeyer.patricia@epa.gov.

SUPPLEMENTARY INFORMATION: Because EPA received adverse comment, we are withdrawing the direct final rule for the Amendment to Standards and Practices for All Appropriate Inquiries published on June 20, 2017 (82 FR 28009). We stated in that direct final rule that if we received adverse comment by July 20, 2017, the direct final rule would not take effect and we would publish a timely withdrawal in the Federal Register. We subsequently received adverse comment on that direct final rule. We addressed the comments received in the final action, which is published in the “Final Rules” section of this Federal Register. As stated in the direct final rule and the parallel proposed rule, we will not institute a second comment period on the parallel proposed rule published on June 20, 2017 (82 FR 28040).

List of Subjects in 40 CFR Part 312

Environmental protection, Administrative practice and procedure, Hazardous substances, Intergovernmental relations, Reporting and recordkeeping requirements, Superfund.

Dated: August 31, 2017.
Barry N. Breen,
Acting Assistant Administrator, Office of Land and Emergency Management.

Accordingly, EPA withdraws the amendment to 40 CFR 312.11(a), published in the Federal Register on June 20, 2017 (82 FR 28009), as of September 15, 2017.

[FR Doc. 2017-19594 Filed 9-14-17; 8:45 am]

BILLING CODE 6560-50-P